BUREAU OF CONSUMER FINANCIAL PROTECTION

[Docket No. CFPB-2022-0040]

Request for Information Regarding Relationship Banking and Customer Service

AGENCY: Bureau of Consumer Financial Protection.

ACTION: Notice; request for information; extension of comment period.

SUMMARY: On June 14, 2022, the Consumer Financial Protection Bureau (Bureau or CFPB) requested information from the public regarding relationship banking and how consumers can assert the right to obtain timely responses to requests for information about their accounts from banks and credit unions with more than $10 billion in assets, as well as from their affiliates. The request for comment was published in the Federal Register on June 21, 2022, in a document titled, “Request for Information Regarding Relationship Banking and Customer Service.” The Bureau has determined that a 30-day extension of the comment period until August 22, 2022, is appropriate.

DATES: The end of the comment period for the document titled, “Request for Information Regarding Relationship Banking and Customer Service,” published on June 21, 2022 (87 FR 36828), is extended from July 21, 2022, until August 22, 2022.

ADDRESSES: You may submit comments, identified by Docket No. CFPB-2022-0040, by any of the following methods:

• Federal eRulemaking Portal: https://www.regulations.gov. Follow the instructions for submitting comments.

• Email: RelationshipBankingAndCustomerService@cfpb.gov. Include Docket No. CFPB-2022-0040 in the subject line of the message.

• Mail/Hand Delivery/Courier: Comment Intake—Relationship Banking, Consumer Financial Protection Bureau, 1700 G Street NW, Washington, DC 20552. Please note that due to circumstances associated with the COVID-19 pandemic, the CFPB discourages the submission of comments by hand delivery, mail, or courier.

Instructions: The CFPB encourages the early submission of comments. All submissions should include document title and docket number. Because paper mail in the Washington, DC area and at the CFPB is subject to delay, commenters are encouraged to submit comments electronically. In general, all comments received will be posted without change to https://www.regulations.gov. In addition, once the CFPB's headquarters reopens, comments will be available for public inspection and copying at 1700 G Street NW, Washington, DC 20552, on official business days between the hours of 10 a.m. and 5 p.m. Eastern Time. At that time, you can make an appointment to inspect the documents by telephoning 202-435-7275. All comments, including attachments and other supporting materials, will become part of the public record and subject to public disclosure. Proprietary information or sensitive personal information, such as account numbers or Social Security numbers, or names of other individuals, should not be included. Comments will not be edited to remove any identifying or contact information.

FOR FURTHER INFORMATION CONTACT: Leslie Parrish, Deputy Assistant Director, Consumer Credit, Payments, and Deposits Markets, or Ted Wegner, Policy Analyst, Office of Consumer Education, at 202-435-7700. If you require this document in an alternative electronic format, please contact CFPB_Accessibility@cfpb.gov.

SUPPLEMENTARY INFORMATION: On June 14, 2022, the Bureau issued a Request for Information seeking information from the public on what customer service obstacles consumers face in the banking market, and specifically, what information would be helpful for consumers to obtain from depository institutions pursuant to section 1034(c) of the CFPA.¹ Under section 1034(c) of the Consumer Financial Protection Act (CFPA), consumers have a legal right to obtain information from the approximately 175 largest banks and credit unions in the country with more than $10 billion in assets, as well as from their affiliates. Through this statutory authority, consumers are able to gain valuable insight into their accounts by requesting certain account information from their depository institution. Allowing an additional comment period will provide additional opportunity for the public to prepare comments related to this inquiry. Therefore, the Bureau is extending the comment period for this request until August 22, 2022.

¹ See 87 FR 36828 (June 21, 2022).

Dani Zylberberg,
Counsel and Federal Register Liaison, Consumer Financial Protection Bureau.

[FR Doc. 2022-15243 Filed 7-19-22; 8:45 am]

BILLING CODE 4810-AM-P